DEPARTMENT OF LABOR

Employment and Training Administration

[TA-W-52,682]

Continental Teves, Asheville, NC; Notice of Termination of Investigation

Pursuant to section 221 of the Trade Act of 1974, as amended, an investigation was initiated on August 26, 2003 in response to a worker petition filed a company official on behalf of workers at Continental Teves, Asheville, North Carolina.

The petitioner has requested that the petition be withdrawn. Consequently, the investigation has been terminated.

Signed at Washington, DC, this 22nd day of September, 2003.
Linda G. Poole,
Certifying Officer, Division of Trade Adjustment Assistance.

[FR Doc. 03-27449 Filed 10-30-03; 8:45 am]

BILLING CODE 4510-30-P